NUCLEAR REGULATORY COMMISSION

Advisory Committee on Reactor Safeguards Subcommittee Meeting on Power Uprates; Revised

The agenda for the November 29-30, 2005, ACRS Subcommittee on Power Uprates has been revised to include several sessions that may be closed to discuss information that is proprietary to General Electric Nuclear Energy, and other contractors of the licensee pursuant to 5 U.S.C. 552b(c)(4). All other items remain the same as published in the Federal Register on Monday, November 14, 2005 (70 FR 69169).

Further information regarding this meeting can be obtained by contacting Mr. Ralph Caruso (Telephone: 301-415-8065) between 7:30 a.m. and 4:15 p.m. (ET).

Dated: November 18, 2005.
Michael L. Scott,
Branch Chief, ACRS/ACNW.

[FR Doc. E5-6550 Filed 11-25-05; 8:45 am]

BILLING CODE 7590-01-P